ELECTION ASSISTANCE COMMISSION

Sunshine Act Notice of Public Meeting Agenda

DATE AND TIME: Thursday, December 15, 2016 (10:30 a.m.-1:00 p.m.—EDT).

PLACE: 1335 East West Highway (First Floor Conference Room) Silver Spring, MD 20910.

AGENDA: Commissioners will meet to provide an initial de-brief on the 2016 election and to celebrate the 10th anniversary of the EAC's Testing and Certification Program. Commissioners will discuss the 2016 election with a panel of state and local election administrators, and a panel representing the perspectives of military and overseas voters, voters with disabilities and other election administration interest groups. Commissioners will hear from a panel to discuss the past ten years of EAC Testing and Certification of voting systems. Voting system manufacturers will discuss the evolution of the program from their perspective; a state certification official will provide insight into how EAC certification assists the states in their unique certification roles, and EAC program staff will provide their thoughts on ten years in the certification business.

STATUS: This meeting will be open to the public.

PERSON TO CONTACT FOR INFORMATION: Bryan Whitener, Telephone: (301) 563-3961.

Bryan Whitener,
Director of Communications and Clearinghouse, U.S. Election Assistance Commission.

[FR Doc. 2016-29592 Filed 12-6-16; 4:15 pm]

BILLING CODE 6820-KF-P